FEDERAL COMMUNICATIONS COMMISSION

47 CFR Parts 6, 7, 14, 20, 64, and 67

[CG Docket No. 16-145 and GN Docket No. 15-178; DA 17-197]

Petition for Clarification, or in the Alternative Reconsideration of Action in Rulemaking Proceeding

AGENCY: Federal Communications Commission.

ACTION: Petition for clarification or reconsideration.

SUMMARY: A Petition for Clarification, or in the Alternative Reconsideration (Petition) has been filed in the Commission's rulemaking proceeding by T-Mobile USA, Inc.

DATES: Comments to the Petition must be filed on or before March 31, 2017. Reply Comments must be filed on or before April 10, 2017.

ADDRESSES: Federal Communications Commission, 445 12th Street SW., Washington, DC 20554.

FOR FURTHER INFORMATION CONTACT: Michael Scott, Consumer and Governmental Affairs Bureau, email: Michael.Scott@fcc.gov; phone: (202) 418-1264.

SUPPLEMENTARY INFORMATION: This is a summary of the Commission's document DA 17-197, released February 27, 2017. The full text of the Petition is available for viewing and copying at the FCC Reference Information Center, 445 12th Street SW., Room CY-A257, Washington, DC 20554 or may be accessed online via the Commission's Electronic Comment Filing System at: https://ecfsapi.fcc.gov/file/102231846629100/T-Mobile%20RTT%20Petition%20for%20Clarification%20(2-22-17)%20FINAL.pdf. The Commission will not send a copy of this document pursuant to the Congressional Review Act, 5 U.S.C. 801(a)(1)(A), because this document does not have an impact on any rules of particular applicability.

Subject: Transition from TTY to Real-Time Text Technology, FCC 16-169, published at 82 FR 7699, January 23, 2017 in CG Docket No. 16-145 and GN Docket No. 15-178. This document is being published pursuant to 47 CFR 1.429(e). See also 47 CFR 1.4(b)(1) and 1.429(f), (g).

Number of Petitions Filed: 1.

Federal Communications Commission.
Karen Peltz Strauss,
Deputy Chief, Consumer and Governmental Affairs Bureau.

[FR Doc. 2017-05191 Filed 3-15-17; 8:45 am]

BILLING CODE 6712-01-P